DEPARTMENT OF AGRICULTURE

Forest Service

Revision of Land and Resource Management Plan for the Santa Fe National Forest; Counties of Los Alamos, Mora, Rio Arriba, Sandoval, San Miguel, Santa Fe, and Taos, New Mexico; Correction

AGENCY: Forest Service, USDA.

ACTION: Notice of intent to revise the Santa Fe National Forest Land and Resource Management Plan and to prepare an associated Environmental Impact Statement (EIS); correction.

SUMMARY: The Forest Service is correcting the comment due date in a document that published in the Federal Register of June 30, 2016 (81 FR 4261), revising the Land and Resource Management Plan (hereafter referred to as the forest plan) for the Santa Fe National Forest.

FOR FURTHER INFORMATION CONTACT: Jennifer Cramer, Forest Planner, Santa Fe National Forest, 11 Forest Lane, Santa Fe, New Mexico 87508. Individuals who use telecommunication devices for the deaf (TDD) may call the Federal Information Relay Service (FIRS) at 1-800-877-8339 between 8 a.m. and 8 p.m., Eastern Time, Monday through Friday.

Correction

In the Federal Register of June 30, 2016, in FR Doc. 2016-15525, on page 42641, in the first column, correct the “DATES” caption to read:

DATES: Comments concerning the Needs for Change and Proposed Action provided in this notice will be most useful in the development of the revised forest plan and draft EIS if received by August 17, 2016. The agency expects to release a draft revised forest plan and draft EIS by summer, 2017 and a final revised forest plan and final EIS by fall, 2018.

Authority: 16 U.S.C. 1600-1614; 36 CFR part 219 [77 FR 21260-21273].

Dated: July 1, 2016.
Joseph S. Norrell,
Deputy Forest Supervisor.

[FR Doc. 2016-16431 Filed 7-11-16; 8:45 am]

BILLING CODE 3410-11-P